DEPARTMENT OF LABOR

Bureau of Labor Statistics

Technical Advisory Committee; Notice of Meeting and Agenda

The Bureau of Labor Statistics Technical Advisory Committee will meet on Friday, November 17, 2017. The meeting will be held from 8:30 a.m. to 4:15 p.m. in the Postal Square Building, 2 Massachusetts Avenue NE., Washington, DC.

The Committee provides advice and makes recommendations to the Bureau of Labor Statistics (BLS) on technical aspects of data collection and the formulation of economic measures and makes recommendations on areas of research. The BLS presents issues and then draws on the expertise of Committee members representing specialized fields within the academic disciplines of economics, statistics, and survey design.

The meeting will be held in Rooms 1, 2, and 3 of the Postal Square Building Janet Norwood Conference Center. The schedule and agenda for the meeting are as follows:

8:30 a.m. Acting Commissioner's Welcome and Review of Agency Developments

9:00 a.m. Survey of Employer Provided Training

11:00 a.m. Commission on Evidence Based Policy-Making

1:00 p.m. Experimental New Vehicle Price Indexes

2:45 p.m. Using Modeled Quarterly Census of Employment and Wages as a Sampling Frame for the Occupational Requirements Survey

4:15 p.m. Approximate conclusion

The meeting is open to the public. Any questions concerning the meeting should be directed to Sarah Dale, Bureau of Labor Statistics Technical Advisory Committee, at 202-691-5643 or dale.sarah@bls.gov. Individuals who require special accommodations should contact Ms. Dale at least two days prior to the meeting date.

Signed at Washington, DC, this 19th day of October 2017.
Kimberley D. Hill,
Chief, Division of Management Systems.

[FR Doc. 2017-23103 Filed 10-24-17; 8:45 am]

BILLING CODE 4510-24-P